NATIONAL SCIENCE FOUNDATION

Committee Management; Renewal

The NSF Management Official having responsibility for the DOE/NSF Nuclear Science Advisory Committee (#1176) has determined that renewing this committee for another two years is necessary and in the public interest in connection with the performance of duties imposed upon the Director, National Science Foundation (NSF), by 42 U.S.C. 1 et seq. This determination follows consultation with the Committee Management Secretariat, General Services Administration.

Authority for this committee will expire on October 1, 2003, unless it is renewed. For more information, please contact Susanne Bolton, NSF, at 703/292-7488.

Dated: October 2, 2001.
Susanne Bolton,
Committee Management Officer.

[FR Doc. 01-25093 Filed 10-4-01; 8:45 am]

BILLING CODE 7555-01-M